NATIONAL SCIENCE FOUNDATION

Marine Carbon Dioxide Removal Research Plan

AGENCY: National Science Foundation.

ACTION: Notice of request for information.

SUMMARY: The National Science Foundation (NSF), on behalf of the White House National Science and Technology Council (NSTC) Marine Carbon Dioxide Removal Fast-Track Action Committee (MCDR-FTAC), requests input from all interested parties to inform the development of an implementation plan to advance a key recommendation of the Ocean Climate Action Plan (OCAP) regarding marine carbon dioxide removal (CDR) research. Marine CDR refers to efforts to increase the amount of atmospheric carbon dioxide taken up by the ocean, adding to the large, natural ocean carbon reservoir. The deployment of safe and effective CDR approaches is increasingly regarded in scientific assessments as necessary in the near future to meet climate goals. The implementation plan, hereafter referred to as the Marine CDR Plan, will advance three actions to enable marine CDR research that are called for in the Ocean Climate Action Plan: establish a comprehensive Federal marine CDR research program; clarify permitting, regulatory, and other standards and policies, and establish guidelines for marine CDR research; and establish a Marine CDR Initiative to enable public-private partnerships and establish mechanisms to strengthen interagency coordination and promote public awareness and engagement. Through this Request for Information (RFI), the MCDR-FTAC seeks input on each element of the Marine CDR Plan.

DATES: Responses are due by 11:59 p.m. eastern time on April 23, 2024. Submissions received after the deadline may not be taken into consideration.

ADDRESSES: Interested individuals and organizations should submit comments electronically to Tricia.M.Light@ostp.eop.gov and include “Marine Carbon Dioxide Removal Research Plan” in the subject line of the email. Email submissions should be machine-readable (PDF, Word) and should not be locked or password protected.

Instructions: Response to this RFI is voluntary. Each individual or organization is requested to submit only one response. Commenters can respond to one or many questions. Submissions are suggested to not exceed a total of five (5) pages in 12 point or larger font. Submissions should clearly indicate which questions are being addressed. Responses should include the name of the person(s) or organization(s) filing the response. Responses containing references, studies, research, and other empirical data that are not widely published should include copies of or electronic links to the referenced materials. Responses containing profanity, vulgarity, threats, or other inappropriate language or content will not be considered.

Please note that MCDR-FTAC agencies may post responses to this RFI, without change, on their websites. NSF, therefore, requests that no business proprietary information, copyrighted information, or personally identifiable information be submitted in response to this RFI. Please note that the U.S. Government will not pay for response preparation, or for the use of any information contained in the response.

FOR FURTHER INFORMATION CONTACT: For further information, please contact: Tricia Light, Office of Science & Technology Policy. Phone (202) 881-7242; email: Tricia.M.Light@ostp.eop.gov.

SUPPLEMENTARY INFORMATION:

Background

Climate change is an existential threat that is causing rising sea levels, melting glaciers and record-setting temperatures, as well as more extreme events, like severe flooding, heatwaves, serious droughts, costly storms, and widespread wildfires. The emissions of carbon dioxide that contribute to climate change are also acidifying the ocean. Rapid and deep reductions in global greenhouse gas emissions are essential to avoid potentially catastrophic consequences. However, reducing emissions alone may not be enough. Carbon dioxide emitted over the last 170 years has accumulated in the atmosphere to such an extent that “large-scale deployment of carbon dioxide removal (CDR)” approaches will also be needed to keep warming below 1.5 °C.¹ CDR is the process by which carbon dioxide is removed and stored away from the atmosphere. Potential CDR approaches include altering land management practices to increase carbon in soils and forests, coupling bioenergy with carbon capture and sequestration technologies, and a range of possible ocean-based approaches, including accelerating weathering to increase the flow into the sea of naturally occurring carbon dioxide-absorbing minerals and fertilizing certain regions of the ocean with iron to stimulate the growth of marine organisms that consume carbon.²

¹ IPCC, 2018: Summary for Policymakers. In: Global Warming of 1.5 °C. An IPCC Special Report on the impacts of global warming of 1.5 °C above pre-industrial levels and related global greenhouse has emission pathways, in the context of strengthening the global response to the threat of climate change, sustainable development, and efforts to eradicate poverty [Masson-Delmotte, V., P. Zhai, H.-O. Pörtner, D. Roberts, J. Skea, P.R. Shukla, A. Pirani, W. Moufouma-Okia, C. Péan, R. Pidcock, S. Connors, J.B.R. Matthews, Y. Chen, X. Zhou, M.I. Gomis, E. Lonnoy, T. Maycock, M. Tignor, and T. Waterfield (eds.)]. Cambridge University Press, Cambridge, UK and New York, NY, USA, pp. 3-24. https://doi.org/10.1017/9781009157940.001

² National Research Council. 2015. Climate Intervention: Carbon Dioxide Removal and Reliable Sequestration. Washington, DC: The National Academies Press. https://doi.org/10.17226/18805.

The United States Ocean Climate Action Plan (OCAP) ³ recognizes the ocean as a powerful tool to address the climate crisis. The ocean is one of the largest natural reservoirs of carbon on Earth. It already removes much of the carbon dioxide that people produce, and it may have the potential to do much more.⁴ It may be possible through marine CDR approaches to safely enhance the natural capacity of the ocean to absorb carbon dioxide through a variety of physical, geochemical, and biological processes. Some of these approaches may even have other beneficial effects, such as locally reducing ocean acidity, which is also caused by carbon dioxide emissions. A variety of potential marine CDR approaches are now under active investigation by Federal agencies, academia, industry, and non-governmental organizations. As of yet, however, no marine CDR methods are considered ready for full-scale deployment or commercial application. Significant questions remain, including how well marine CDR approaches will work and for how long, how much they will cost, and what other impacts—beneficial or adverse—they may have.⁴ The OCAP calls for a substantial ramp up in marine CDR research investments to answer these questions and ensure that necessary field tests are appropriately regulated. In response, the National Science and Technology Council (NSTC), a Cabinet-level council and the principal means for the President to coordinate science and technology policies across the Federal Government (Executive Order 12881),⁵ established the Marine Carbon Dioxide Removal Fast Track Action Committee (MCDR-FTAC).⁶ The MCDR-FTAC provides guidance and direction to the NSTC through the Subcommittee on Ocean Science and Technology (SOST) regarding marine CDR research and policy.

³ Ocean Climate Action Plan (2023), https://www.whitehouse.gov/wp-content/uploads/2023/03/Ocean-Climate-Action-Plan_Final.pdf.

⁴ National Academies of Sciences, Engineering, and Medicine. (2022). A Research Strategy for Ocean-based Carbon Dioxide Removal and Sequestration. The National Academies Press. https://doi.org/10.17226/26278.

⁵ Executive Order 12881: Establishment of the National Science and Technology Council (1993), https://www.govinfo.gov/content/pkg/WCPD-1993-11-29/pdf/WCPD-1993-11-29-Pg2450.pdf.

⁶ Charter of the Marine Carbon Dioxide Removal Fast-Track Action Committee (2023), https://www.noaa.gov/sites/default/files/2023-10/mCDR_FTAC_charter_2023_09_19_approved.pdf.

To advance the marine CDR objectives of the OCAP, the MCDR-FTAC will develop a National Marine CDR Plan that will—

• Establish a comprehensive Federal marine CDR research program. The Marine CDR Plan will establish a comprehensive Federal marine CDR research program to accelerate the development of knowledge needed to determine: (1) the climate-mitigation potential of marine CDR approaches, including their efficacy, permanence, scalability, energy and other resource demands, and costs; (2) the ability of marine CDR approaches to provide co-benefits, such as mitigating ocean acidity; and (3) the potential for marine CDR to have adverse impacts on the marine environment, human health and communities, and other uses of the sea. The research program will build on available recommendations, such as those of the National Academies of Sciences, Engineering and Medicine, and include research in the natural, engineering, and social sciences. It will encompass theoretical, modeling, and laboratory studies, and include at-scale tests in the field, ensuring that ocean observations are robust, sustained, and verifiable. The research program will support the effective regulation of marine CDR and inform decisions about the possible deployment and commercial application of marine CDR approaches in the future. It will identify the most urgent research priorities for Federal support and take into account related efforts by academia, industry, philanthropy, non-governmental organizations, and other governments.

• Clarify permitting, regulatory, and other standards and policies, and establish guidelines for marine CDR research. The Marine CDR Plan will identify relevant domestic and international regulatory frameworks and clarify how they apply to marine CDR research, including at-scale tests in the field. The guidelines will identify considerations for measuring, monitoring, reporting, and verifying (MMRV) marine CDR to support permitting and regulation and the development of standards for carbon accounting. The Marine CDR Plan will also identify any critical gaps in knowledge and capabilities necessary to effectively regulate marine CDR.

• Establish a Marine CDR Initiative to enable public-private partnerships and establish mechanisms to strengthen interagency coordination and promote public awareness and engagement. The Marine CDR Plan will establish a mechanism or mechanisms to: (1) strengthen the ability of Departments and Agencies across the Federal Government to collaborate on marine CDR research and regulation; (2) facilitate information sharing and stakeholder engagement, including with Indigenous communities and communities that may be affected by marine CDR; and (3) enable partnerships between the Federal Government and academia, industry, philanthropy, non-governmental organizations and other governments, including to fund research jointly, such as through a Marine CDR Initiative.

In developing these three actions in the Marine CDR Plan, the MCDR-FTAC will seek to harmonize and streamline existing Federal research efforts, the regulatory process, and public engagement and partnerships for marine CDR.

Questions To Inform Development of the Strategy

You may provide information for one or as many topics below as you choose. Clearly indicate in your submission which questions are being addressed. The MCDR-FTAC is seeking input from the public on the following:

1. How would a Marine CDR Plan affect you, your organization, or your community?

2. What questions or concerns do you have about the regulation of marine CDR, including marine CDR research? What tools or resources should the Federal Government provide to support the safety and effectiveness of marine CDR research, including testing at scale in the field? What knowledge exists, and what additional knowledge is needed to inform the safe and effective regulation of marine CDR research? What knowledge exists and what additional knowledge will be needed to inform decisions about the readiness of any marine CDR approach for full-scale deployment or commercial application?

3. Which marine CDR techniques or what aspects of marine CDR do you believe the Federal Government should prioritize for research? Are there particular marine CDR approaches that you believe are especially promising with regard to climate change mitigation, ocean acidification, or other benefits? Are there particular marine CDR approaches that you believe are particularly more or less risky with regard to the environment, public health and communities, or other uses of the sea?

4. What kinds of information about marine CDR would be most helpful for the Federal Government to make available to the public, research community, and other stakeholders? How should the government engage marine CDR stakeholders and the public, including Indigenous communities and communities that may be affected by marine CDR?

5. What are the most significant marine CDR efforts being undertaken by academia, industry, philanthropy, non-governmental organizations, and other governments that the Federal Government should be aware of? What factors should the Federal Government take into account when considering potential partnerships between these entities and the Federal Government? What are the biggest challenges that the Federal Government and potential partners may face in collaborating, and how could the Federal Government help overcome these challenges? What examples of partnerships are most relevant to potential marine CDR partnerships?

6. What else would you like the Federal Government to consider as it develops a Marine CDR Plan?

Dated: February 20, 2024.
Suzanne H. Plimpton,
Reports Clearance Officer, National Science Foundation.

[FR Doc. 2024-03758 Filed 2-22-24; 8:45 am]

BILLING CODE 7555-01-P